FEDERAL MINE SAFETY AND HEALTH REVIEW COMMISSION

Sunshine Act Notice

September 3, 2010.

TIME AND DATE: 10 a.m., Thursday, September 16, 2010.

PLACE: The Richard V. Backley Hearing Room, 9th Floor, 601 New Jersey Avenue, NW., Washington, DC.

STATUS: Open.

MATTERS TO BE CONSIDERED: The Commission will consider and act upon the following in open session: Secretary of Labor v. Dynamic Energy, Inc., Docket No. WEVA 2007-448-R. (Issues include whether the administrative law judge properly found a violation of 30 CFR 77.1607(b), which requires mobile equipment operators to have “full control” of their equipment while it is in motion.)

Any person attending this meeting who requires special accessibility features and/or auxiliary aids, such as sign language interpreters, must inform the Commission in advance of those needs. Subject to 29 CFR 2706.150(a)(3) and § 2706.160(d).

CONTACT PERSON FOR MORE INFO: Jean Ellen, (202) 434-9950/(202) 708-9300 for TDD Relay/1-800-877-8339 for toll free.

Jean H. Ellen,
Chief Docket Clerk.

[FR Doc. 2010-22700 Filed 9-8-10; 11:15 am]

BILLING CODE 6735-01-P